DEPARTMENT OF AGRICULTURE

Forest Service

Bridger-Teton National Forest, Wyoming, Long Term Special Use Authorization for Wyoming Game and Fish Commission To Use National Forest Land for Their Winter Elk Management Programs

AGENCY: Forest Service, USDA.

ACTION: Notice of intent to prepare an environmental impact statement.

SUMMARY: The Bridger-Teton National Forest has received a request from the Wyoming Game and Fish Commission (WGFC) to continue to use certain facilities on tracts of NFS lands to conduct their elk winter feeding and related management programs. The proposed action is to issue the WGFC a Special Use Authorization for the proposed uses of NFS land.

DATES: Comments concerning the scope of the analysis must be postmarked by September 17, 2007. The draft environmental impact statement is expected in January of 2008 and the final environmental impact statement is expected in May of 2008.

ADDRESSES: Send written comments to Carole “Kniffy” Hamilton, Forest Supervisor, Bridger-Teton National Forest, P.O. Box 1888, Jackson, WY 83001. Send electronic mail to: comments-intermtn-bridger-teton@fs.fed.us.

FOR FURTHER INFORMATION CONTACT: Greg Clark, District Ranger, Big Piney Ranger District, P.O. Box 218, Big Piney, WY 83113 (307-276-5810).

SUPPLEMENTARY INFORMATION: WGFC is the agency responsible for management of wildlife in the State of Wyoming. WGFC has constructed structures and utilized segments of land on the Bridger-Teton National Forest for more than 50 years to conduct their winter elk management programs. This use of NFS land has been authorized in the past by the issuance of permits. The WGFC has requested long term authorization to continue this established use.

Purpose and Need for Action

The purpose and need for action is to respond to the WGFC request for long term Special Use Permits. The Special Use Permits would authorize the proposed intermittent occupancy and use of specified lands for activities associated with their winter elk management program.

Proposed Action

The proposed action is to authorize the continued use of NFS lands by the WGFC for corrals, sheds, chutes, and feeding grounds associated with their ongoing winter elk management program. The specific areas addressed in this action include the following sites:

(1) Fish Creek.

(2) Pritchard Creek (Dog Creek).

(3) Muddy Canyon.

(4) Fall Creek.

(5) Alkali Creek.

(6) Upper Green River.

(7) Patrol Cabin.

Possible Alternatives

Three preliminary alternatives have been identified: (1) The no action alternative—no Special Use Authorization would be issued, (2) The proposed action—issuance of authorization to the WGFC, and (3) authorization of the proposed use with modifications.

Lead and Cooperating Agencies

The Forest Service is the lead agency. WGFC is a cooperating agency.

Responsible Official

The responsible forest officer for this proposed action is Carole “Kniffy” Hamilton, Forest Supervisor, Bridger-Teton National Forest, 340 N. Cache, P.O. Box 1888, Jackson, WY 83001.

Nature of Decision To Be Made

The decision to be made is whether or not to authorize, in whole or in part, use of specific NFS lands by the WGFC for corrals, sheds, chutes, and feeding grounds associated with their ongoing elk feeding and management program.

Scoping Process

The first formal opportunity to respond to the proposed action listed above is during the public scoping process (40 CFR 1501.7) which begins with the issuance of this Notice of Intent. Scoping letters will be sent to the forest mailing list of known interested parties, and public meetings will be scheduled in Jackson and Pinedale, WY. The time and place for those meetings will be published in the local papers and posted on the forest Web site. The scoping process will assist the forest in identifying specific issues to be addressed related to the purpose and need and the scope of the decision. Mail comments to the addresses given above for further information. Ongoing information related to the proposed action and related analysis will be posted on the Bridger-Teton National Forest Web site http://www.fs.fed.us/r4/btnf.

Preliminary Issues

Preliminary issues associated with the proposed action include:

(1) Concentrated use of the specified areas by elk could affect local habitat due to heavy browsing of willows and other shrubs.

(2) Concentrated use of the specified areas during warmer spring days could impact soils due to trampling on the area.

(3) Importing of hay would increase the possibility of introducing noxious weeds.

Permits or Licenses Required

If the decision is to authorize the WGFC to occupy and use National Forest System lands, it will be done through the issuance of a Special Use Authorization. (36 CFR part 251 subpart B)

Comment Requested

This notice of intent initiates the scoping process which guides the development of the environmental impact statement.

Early Notice of Importance of Public Participation in Subsequent Environmental Review: A draft environmental impact statement (DEIS) will be prepared for comment. The comment period on the DEIS will be for a period of 45 days from the date the Environmental Protection Agency publishes the notice of availability in the Federal Register.

The Forest Service believes, at this early stage, it is important to give reviewers notice of several court rulings related to public participation in the environmental review process. First, reviewers of a DEIS must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: July 12, 2007.
Carole “Kniffy” Hamilton,
Forest Supervisor, Bridger-Teton National Forest.

6

[FR Doc. E7-14152 Filed 7-20-07; 8:45 am]

BILLING CODE 3410-11-P